NUCLEAR REGULATORY COMMISSION

[Docket No. 50-344]

Portland General Electric Company, et al.; Trojan Nuclear Plant; Notice of Consideration of Approval of Application Regarding Sierra Pacific Resources Purchase of Portland General Electric and Opportunity for a Hearing

The U.S. Nuclear Regulatory Commission (NRC) is considering the issuance of an order under 10 CFR 50.80 and 10 CFR 72.50 approving the indirect transfer of Facility Operating License No. NFP-1 for the Trojan Nuclear Plant (TNP) and Materials License No. SNM-2509 for the TNP Independent Spent Fuel Storage Installation (ISFSI) located in Columbia County, Oregon, on the west bank of the Columbia River.

According to an application for approval filed by Portland General Electric Company (PGE, the licensee), Sierra Pacific Resources (SPR) is considering the purchase of all of the common stock of PGE from Enron Corporation. PGE, currently a wholly owned subsidiary of Enron Corporation, would become a wholly-owned subsidiary of SPR, thereby effecting an indirect transfer of Enron's interest in the TNP and ISFSI licenses to SPR. No physical changes to the TNP or ISFSI or operational changes are being proposed in the application. No direct transfer of the licenses for the facility and the ISFSI would result from the ownership transfer.

Pursuant to 10 CFR 50.80 and 10 CFR 72.50, no license, or any right thereunder, shall be transferred, directly or indirectly, through transfer of control of the license, unless the Commission shall give its consent in writing. The Commission will approve an application for the indirect transfer of a facility or ISFSI license, if the Commission determines that the proposed transfer of control will not affect the qualifications of the holder of the license, and that the transfer is otherwise consistent with applicable provisions of law, regulations, and orders issued by the Commission pursuant thereto.

The filing of requests for hearing and petitions for leave to intervene, and written comments with regard to the license transfer application, are discussed below.

By June 1, 2000, any person whose interest may be affected by the Commission's action on the application may request a hearing, and, if not the applicants, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR Part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon Mary A. Murphy, Esq., counsel for, Leboeuf, Lamb, Green, and MacRae L.L.P., 1875 Connecticut Avenue, Washington, D.C. 20009-5728; George M. Galloway, Esq., counsel for, Stoel Rives L.L.P., Standard Insurance Center, 900 SW Fifth Avenue, Suite 2300, Portland, OR 97204-1268; the General Counsel, U.S. Nuclear Regulatory Commission, Washington, DC 20555 (e-mail address for filings regarding license transfer cases only: OGCLT@NRC.GOV); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by June 12, 2000, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application dated January 13, 2000, and supplement dated January 20, 2000, which are available for public inspection at the Commission's Public Document Room, The Gelman Building, 2120 L Street, N.W, Washington, D.C. 20037, and accessible electronically through the ADAMS Public Electronic Reading Room link at the NRC Web site (http://www.nrc.gov).

Dated at Rockville, Maryland, this 8th day of May 2000.
For the Nuclear Regulatory Commission.
Richard F. Dudley,
Acting Chief, Decommissioning Section, Project Directorate IV and Decommissioning, Division of Licensing Project Management, Office of Nuclear Reactor Regulation.

[FR Doc. 00-11956 Filed 5-11-00; 8:45 am]

BILLING CODE 7590-01-P